DEPARTMENT OF COMMERCE

International Trade Administration

[A-475-703, A-588-707]

Continuation of Antidumping Duty Orders on Granular Polytetrafluoroethylene Resin from Italy and Japan

AGENCY: Import Administration, International Trade Administration, Department of Commerce.

SUMMARY: As a result of the determinations by the Department of Commerce (“the Department”) and the International Trade Commission (“ITC”) that revocation of the antidumping duty orders on granular polytetrafluoroethylene resin (“PTFE Resin”) from Italy and Japan would likely lead to continuation or recurrence of dumping, and to material injury to an industry in the United States, the Department is publishing notice of continuation of these antidumping duty orders.

EFFECTIVE DATE: December 22, 2005.

FOR FURTHER INFORMATION CONTACT: Martha V. Douthit or Dana Mermelstein, AD/CVD Operations, Office 6, Import Administration, International Trade Administration, U.S. Department of Commerce, 14th Street and Constitution Avenue, NW, Washington, DC 20230; telephone: (202) 482-5050 or (202) 482-1391, respectively.

SUPPLEMENTARY INFORMATION:

Background

On December 1, 2004, the Department initiated and the ITC instituted sunset reviews of the antidumping duty orders on PTFE Resin from Italy and Japan pursuant to section 751(c) of the Tariff Act of 1930, as amended (“the Act”).¹

¹ See Initiation of Five-Year (“Sunset”) Reviews, 69 FR 69891 (December 1, 2004), and ITC Investigation Nos. 731-TA-385 and 386 (Second Review), 69 FR 69954 (December 1, 2004).

As a result of its review, the Department found that revocation of the antidumping duty order would likely lead to continuation or recurrence of dumping, and notified the ITC of the magnitude of the margins likely to prevail were the order to be revoked.² On December 8, 2005, the ITC determined, pursuant to section 751(c) of the Act, that revocation of the antidumping duty orders on PTFE Resin from Italy and Japan would likely lead to continuation or recurrence of material injury to an industry in the United States within a reasonably foreseeable time.³

² See Granular Polytetrafluoroethylene Resin from Italy and Japan; Five-year (“Sunset”) Reviews of Antidumping Duty Orders; Final Results, 70 FR 38872 (July 6, 2005).

³ See Investigation Nos. 731-TA-385 and 386 (Second Review), 70 FR 73026 (December 8, 2005).

Scope of the Orders

Italy (A-475-703)

The merchandise covered by this order is PTFE Resin, filled or unfilled, from Italy. The antidumping duty order also covers PTFE Resin wet raw polymer exported from Italy to the United States. See Granular Polytetrafluoroethylene Resin From Italy; Final Determination of Circumvention of Antidumping Duty Order, 58 FR 26100 (April 30, 1993). This order excludes PTFE dispersions in water and fine powders. The subject merchandise is classified under subheading 3904.61.00 of the Harmonized Tariff Schedule of the United States (“HTS”).

Japan (A-588-707)

The merchandise covered by this order is PTFE Resin, filled or unfilled, from Japan. PTFE Resin dispersions in water and PTFE Resin fine powders are excluded from the order. The merchandise covered by this antidumping duty order is currently classifiable under subheading 3904.61.00 of the HTS.

Determinations

As a result of the determinations by the Department and the ITC that revocation of these antidumping duty orders would likely lead to continuation or recurrence of dumping, and to material injury to an industry in the United States, pursuant to section 751(d)(2) of the Act, the Department hereby orders the continuation of the antidumping duty orders on PTFE Resin from Italy and Japan.

U.S. Customs and Border Protection will continue to collect antidumping duty cash deposits at the rates in effect at the time of entry for all imports of subject merchandise.

The effective date of continuation of these orders will be the date of publication in the Federal Register of this “Notice of Continuation.” Pursuant to sections 751(c)(2) and 751(c)(6)(A) of the Act, the Department intends to initiate the next five-year reviews of these orders not later than November 2010.

These five-year (sunset) reviews and this notice are published in accordance with sections 751(c) and 777(i)(1) of the Act.

Dated: December 15, 2005.
Stephen J. Claeys,
Acting Assistant Secretary for Import Administration.

[FR Doc. E5-7710 Filed 12-21-05; 8:45 am]

Billing Code: 3510-DS-S